DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Date and Times: Tuesday, May 15, 2018: 9:00 a.m.-5:00 p.m. (EDT), Wednesday, May 16, 2018: 8:30 a.m.-2:45 p.m. (EDT).

Place: U.S. Department of Health and Human Services, Hubert H. Humphrey Building, 200 Independence Avenue SW, Rm. 705A, Washington, DC 20201.

Status: Open.

Purpose: At the May 15-16, 2018 meeting, the Committee will hear presentations, hold discussions on several health data policy topics and work on activities outlined in the NCVHS 2018 workplan. Anticipated action items during this meeting include a letter to the Secretary and a summary report of the hearing held September 2017 on the topic of the national vital records and vital statistics systems. In addition, a letter to the Secretary regarding the Committee's recommendations resulting from the March Standards Subcommittee Hearing on NCPDP Updates will be considered for approval. The Office of the National Coordinator (ONC) will give an update and the Committee will discuss its collaboration with ONC and its advisory committee HITAC. Subcommittee activities for discussion include the CIO Forum to be held in May and the Predictability Roadmap as part of the Standards Subcommittee's project to identify possible approaches to improve predictability and improvements in the adoption and processes related to updating standards and operating rules for electronic administrative transactions (e.g., claims, eligibility, electronic funds transfer). The agenda and plans for the July meeting examining health terminology & vocabulary development, maintenance, and dissemination processes will be discussed together with a draft environmental scan report. The Committee will continue development of its Health Information Privacy & Security Beyond HIPAA project focusing on clinical registries as a use case. The Committee also will discuss any recent developments resulting from the initial wave of the Medicare Card Project roll out.

The times and topics are subject to change. Please refer to the posted agenda for any updates.

Contact Persons for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: www.ncvhs.hhs.gov, where further information including an agenda and instructions to access the audio broadcast of the meetings will also be posted.

Should you require reasonable accommodation, please contact the CDC Office of Equal Employment Opportunity on (770) 488-3210 as soon as possible.

Dated: April 10, 2018.
Laina Bush,
Deputy Assistant Secretary for Planning and Evaluation, Office of the Assistant Secretary for Planning and Evaluation.

[FR Doc. 2018-07928 Filed 4-16-18; 8:45 am]

BILLING CODE 4151-05-P